DEPARTMENT OF ENERGY

Federal Energy Regulatory Commission

Combined Notice of Filings #1

Take notice that the Commission received the following electric corporate filings:

Docket Numbers: EC24-47-000.

Applicants: Erie Boulevard Hydropower, L.P.

Description: Application for Authorization Under Section 203 of the Federal Power Act of Erie Boulevard Hydropower, L.P.

Filed Date: 2/5/24.

Accession Number: 20240205-5193.

Comment Date: 5 p.m. ET 2/26/24.

Take notice that the Commission received the following exempt wholesale generator filings:

Docket Numbers: EG24-102-000.

Applicants: Wythe County Solar Project, LLC.

Description: Wythe County Solar Project, LLC submits Notice of Self-Certification of Exempt Wholesale Generator Status.

Filed Date: 2/6/24.

Accession Number: 20240206-5054.

Comment Date: 5 p.m. ET 2/27/24.

Take notice that the Commission received the following electric rate filings:

Docket Numbers: ER10-1951-066; ER11-4462-090; ER13-2474-026; ER14-2708-028; ER14-2709-027; ER14-2710-027; ER15-30-025; ER15-58-025; ER16-1440-021; ER16-2240-021; ER16-2241-020; ER16-2297-021; ER17-838-064; ER18-1981-016; ER18-2032-016; ER18-2314-014; ER19-1128-010; ER19-2495-012; ER19-2513-012; ER20-637-010; ER20-780-010; ER20-792-010; ER20-1991-010; ER20-2237-010; ER20-2597-010; ER20-2603-010; ER20-2648-009.

Applicants: Northern Divide Wind, LLC, Skeleton Creek Wind, LLC, Soldier Creek Wind, LLC, Weatherford Wind, LLC, Ponderosa Wind, LLC, Oklahoma Wind, LLC, Sooner Wind, LLC, Wilton Wind Energy I, LLC, Wilton Wind Energy II, LLC, Wessington Springs Wind, LLC, Rush Springs Energy Storage, LLC, Sholes Wind, LLC, Wildcat Ranch Wind Project, LLC, Pratt Wind, LLC, NextEra Energy Marketing, LLC, Osborn Wind Energy, LLC, Ninnescah Wind Energy, LLC, Rush Springs Wind Energy, LLC, Roswell Solar, LLC, Palo Duro Wind Interconnection Services, LLC, Seiling Wind Interconnection Services, LLC, Palo Duro Wind Energy, LLC, Seiling Wind II, LLC, Seiling Wind, LLC, Steele Flats Wind Project, LLC, NEPM II, LLC, NextEra Energy Services Massachusetts, LLC.

Description: Notice of Change in Status of Armadillo Flats Wind Project, LLC, et al.

Filed Date: 1/31/24.

Accession Number: 20240131-5650.

Comment Date: 5 p.m. ET 2/21/24.

Docket Numbers: ER18-2118-017; ER20-2019-009; ER11-2642-025; ER10-1849-031; ER10-1852-091; ER12-895-030; ER12-1228-032; ER13-712-033; ER14-2707-027; ER15-1925-025; ER15-2676-024; ER16-1672-023; ER16-2190-021; ER16-2191-021; ER16-2275-020; ER16-2276-020; ER16-2453-022; ER17-2152-018; ER18-882-019; ER18-2003-016; ER18-2066-011; ER18-2182-017; ER20-1907-009; ER20-1986-008; ER20-2064-010; ER20-2179-009; ER21-1990-007; ER21-2117-008; ER21-2149-008; ER21-2225-008; ER21-2296-008; ER21-2699-009; ER22-1982-007; ER22-2516-003; ER23-2629-002.

Applicants: High Banks Wind, LLC, Chaves County Solar II, LLC, Great Prairie Wind, LLC, Minco Wind Energy III, LLC, Ensign Wind Energy, LLC, Irish Creek Wind, LLC, Minco Wind Energy II, LLC, Little Blue Wind Project, LLC, Blackwell Wind Energy, LLC, Baldwin Wind Energy, LLC, High Majestic Wind I, LLC, Day County Wind I, LLC, Minco Wind I, LLC, Minco IV & V Interconnection, LLC, Minco Wind IV, LLC, Lorenzo Wind, LLC, Elk City Renewables II, LLC, Cottonwood Wind Project, LLC, Brady Interconnection, LLC, Kingman Wind Energy II, LLC, Kingman Wind Energy I, LLC, Brady Wind II, LLC, Brady Wind, LLC, Chaves County Solar, LLC, Cedar Bluff Wind, LLC, Breckinridge Wind Project, LLC, Mammoth Plains Wind Project, LLC, Cimarron Wind Energy, LLC, High Majestic Wind II, LLC, Minco Wind Interconnection Services, LLC, Florida Power & Light Company, Elk City Wind, LLC, FPL Energy South Dakota Wind, LLC, Gray County Wind Energy, LLC, Armadillo Flats Wind Project, LLC.

Description: Notice of Change in Status of Armadillo Flats Wind Project, LLC, et al.

Filed Date: 1/31/24.

Accession Number: 20240131-5649.

Comment Date: 5 p.m. ET 2/21/24.

Docket Numbers: ER19-2373-014; ER10-1972-030; ER10-1841-031; ER10-1907-030; ER10-1918-031; ER10-1950-031; ER10-1951-065; ER10-1970-030; ER10-2005-031; ER10-2078-029; ER11-4462-089; ER12-1660-030; ER13-2458-025; ER10-1852-090; ER16-1872-021; ER16-2506-023; ER17-838-063; ER17-2270-022; ER18-1771-021; ER18-2224-021; ER18-2246-020; ER19-987-018; ER19-1003-018; ER19-1393-018; ER19-1394-018; ER19-2382-014; ER19-2398-016; ER19-2437-014; ER19-2461-014; ER20-122-012; ER20-1220-012; ER20-1796-002; ER20-1879-013; ER20-1987-013; ER20-2690-012; ER21-1320-008; ER21-1953-010; ER21-2048-010; ER21-2100-009; ER22-2536-005; ER22-2601-005; ER22-2634-005; ER23-568-004; ER23-2321-002; ER23-2324-002; ER23-2694-002.

Applicants: Cereal City Solar, LLC, Cavalry Energy Center, LLC, Dunns Bridge Energy Storage, LLC, Big Cypress Solar, LLC, Buffalo Ridge Wind, LLC, Walleye Wind, LLC, Kossuth County Wind, LLC, Point Beach Solar, LLC, Sac County Wind, LLC, Heartland Divide Wind II, LLC, Crystal Lake Wind Energy III, LLC, Jordan Creek Wind Farm LLC, Cerro Gordo Wind, LLC, Oliver Wind I, LLC, Entergy Arkansas, LLC, Oliver Wind Energy Center II, LLC, Crowned Ridge Interconnection, LLC, Crowned Ridge Wind, LLC, Emmons-Logan Wind, LLC, Hancock County Wind, LLC, Story County Wind, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Florida Power & Light Company, Tuscola Wind II, LLC, Tuscola Bay Wind, LLC, NEPM II, LLC, White Oak Energy LLC, Ashtabula Wind II, LLC, NextEra Energy Duane Arnold, LLC, NextEra Energy Services Massachusetts, LLC, Garden Wind, LLC, FPL Energy North Dakota Wind II, LLC, FPL Energy North Dakota Wind, LLC, Butler Ridge Wind Energy Center, LLC, NextEra Energy Point Beach, LLC, Ashtabula Wind I, LLC.

Description: Notice of Change in Status of Ashtabula Wind I, LLC, et al.

Filed Date: 1/31/24.

Accession Number: 20240131-5648.

Comment Date: 5 p.m. ET 2/21/24.

Docket Numbers: ER23-2359-005.

Applicants: PJM Interconnection, L.L.C.

Description: Tariff Amendment: Amendment to ISA/CSA SA Nos. 6967 & 6968; Queue No. AD2-100/131 Docket ER23-235 to be effective 9/6/2023.

Filed Date: 2/5/24.

Accession Number: 20240205-5181.

Comment Date: 5 p.m. ET 2/26/24.

Docket Numbers: ER23-2764-003.

Applicants: Northeastern Power & Gas, LLC.

Description: Tariff Amendment: Amendment to 11 Asset Appendix number to be effective 9/25/2023.

Filed Date: 2/6/24.

Accession Number: 20240206-5037.

Comment Date: 5 p.m. ET 2/27/24.

Docket Numbers: ER24-377-001.

Applicants: Devon Energy Production Company, LP.

Description: Tariff Amendment: Amendment to Market Base Rate Filing to be effective 12/26/2023.

Filed Date: 2/6/24.

Accession Number: 20240206-5053.

Comment Date: 5 p.m. ET 2/27/24.

Docket Numbers: ER24-1193-000.

Applicants: River Fork Solar, LLC.

Description: § 205(d) Rate Filing: Revised Market-Based Rate Tariff Filing to be effective 4/8/2024.

Filed Date: 2/6/24.

Accession Number: 20240206-5035.

Comment Date: 5 p.m. ET 2/27/24.

Docket Numbers: ER24-1194-000.

Applicants: CPV Stagecoach Solar, LLC.

Description: § 205(d) Rate Filing: Revised Market-Based Rate Tariff Filing to be effective 4/8/2024.

Filed Date: 2/6/24.

Accession Number: 20240206-5045.

Comment Date: 5 p.m. ET 2/27/24.

Docket Numbers: ER24-1195-000.

Applicants: NorthWestern Corporation.

Description: Annual Filing of Post-Employment Benefits Other than Pensions for 2023 of NorthWestern Corporation (Montana).

Filed Date: 2/1/24.

Accession Number: 20240201-5256.

Comment Date: 5 p.m. ET 2/22/24.

Docket Numbers: ER24-1196-000.

Applicants: Alabama Power Company, Georgia Power Company, Mississippi Power Company.

Description: § 205(d) Rate Filing: Alabama Power Company submits tariff filing per 35.13(a)(2)(iii): Brush Creek Renewables LGIA Filing to be effective 1/24/2024.

Filed Date: 2/6/24.

Accession Number: 20240206-5080.

Comment Date: 5 p.m. ET 2/27/24.

Docket Numbers: ER24-1197-000.

Applicants: Just Energy (U.S.) Corp.

Description: Tariff Amendment: Just Energy (U.S.) Corp. Request to Cancel MBR Tariff to be effective 2/7/2024.

Filed Date: 2/6/24.

Accession Number: 20240206-5084.

Comment Date: 5 p.m. ET 2/27/24.

Docket Numbers: ER24-1198-000.

Applicants: Midcontinent Independent System Operator, Inc.

Description: § 205(d) Rate Filing: 2024-02-06_SA 4194 NSP-County of Dakota GIA (J1826) to be effective 11/10/2023.

Filed Date: 2/6/24.

Accession Number: 20240206-5087.

Comment Date: 5 p.m. ET 2/27/24.

Docket Numbers: ER24-1199-000.

Applicants: PJM Interconnection, L.L.C.

Description: Tariff Amendment: Cancellation of UCSA, SA No. 6596; J878 to be effective 4/8/2024.

Filed Date: 2/6/24.

Accession Number: 20240206-5104.

Comment Date: 5 p.m. ET 2/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 6, 2024.
Debbie-Anne A. Reese,
Acting Secretary.

[FR Doc. 2024-02817 Filed 2-9-24; 8:45 am]

BILLING CODE 6717-01-P